DEPARTMENT OF ENERGY

Federal Energy Regulatory Commission

Combined Notice of Filings #1

Take notice that the Commission received the following electric corporate filings:

Docket Numbers: EC25-44-000.

Applicants: CPV Shore, LLC.

Description: Application for Authorization Under Section 203 of the Federal Power Act of CPV Shore, LLC.

Filed Date: 1/29/25.

Accession Number: 20250129-5274.

Comment Date: 5 p.m. ET 2/19/25.

Docket Numbers: EC25-45-000.

Applicants: Gator Holdings, L.P., Dolphin HoldCo, LLC, BISS Lumos Aggregator LP, OPPS Origis Holdings, L.P.

Description: Application for Authorization Under Section 203 of the Federal Power Act of Gator Holdings, L.P.

Filed Date: 1/29/25.

Accession Number: 20250129-5276.

Comment Date: 5 p.m. ET 2/19/25.

Take notice that the Commission received the following exempt wholesale generator filings:

Docket Numbers: EG25-98-000.

Applicants: Sun Ridge Solar, LLC.

Description: Sun Ridge Solar, LLC submits Notice of Self-Certification of Exempt Wholesale Generator Status.

Filed Date: 2/3/25.

Accession Number: 20250203-5097.

Comment Date: 5 p.m. ET 2/24/25.

Take notice that the Commission received the following Complaints and Compliance filings in EL Dockets:

Docket Numbers: EL25-54-000; QF22-859-001.

Applicants: RGP Bowman Solar, LLC, RGP Bowman Solar, LLC.

Description: Petition for Enforcement Pursuant to Section 210(h)(2)(B) of the Public Utility Regulatory Policies Act of 1978 of RGP Bowman Solar, LLC.

Filed Date: 1/31/25.

Accession Number: 20250131-5498.

Comment Date: 5 p.m. ET 2/21/25.

Take notice that the Commission received the following electric rate filings:

Docket Numbers: ER10-1819-042; ER10-1820-045.

Applicants: Northern States Power Company, a Wisconsin corporation, Northern States Power Company, a Minnesota corporation.

Description: Notice of Change in Status of Northern States Power Company, a Minnesota corporation, et al.

Filed Date: 1/30/25.

Accession Number: 20250130-5285.

Comment Date: 5 p.m. ET 2/20/25.

Docket Numbers: ER10-2249-011.

Applicants: Portland General Electric Company.

Description: Notice of Change in Status of Portland General Electric Company.

Filed Date: 1/30/25.

Accession Number: 20250130-5288.

Comment Date: 5 p.m. ET 2/20/25.

Docket Numbers: ER10-2822-023; ER16-1250-016; ER11-2112-011; ER10-2828-007; ER10-2285-008; ER17-1241-002; ER16-2285-005; ER10-2423-011; ER10-2404-011; ER10-2812-018; ER10-1291-025; ER10-2843-017; ER12-2649-006; ER10-1725-006; ER10-3001-007; ER10-3002-007; ER10-3004-008; ER12-422-008; ER10-2301-006; ER19-2361-002; ER20-2830-001; ER10-3010-007; ER10-2306-006; ER12-96-010; ER10-3031-007; ER10-3160-005; ER16-1637-004.

Applicants: UIL Distributed Resources, LLC, The United Illuminating Company, Streator-Cayuga Ridge Wind Power LLC, South Chestnut LLC, Rochester Gas and Electric Corporation, Providence Heights Wind, LLC, PPM Roaring Brook, LLC, Otter Creek Wind Farm LLC, New York State Electric & Gas Corporation, New England Wind, LLC, Locust Ridge Wind Farm II, LLC, Locust Ridge Wind Farm, LLC, Lempster Wind, LLC, Hardscrabble Wind Power LLC, Groton Wind, LLC, GenConn Middletown LLC, GenConn Energy LLC, GenConn Devon LLC, Flat Rock Windpower II LLC, Flat Rock Windpower LLC, Desert Wind Farm LLC, Deerfield Wind, LLC, Central Maine Power Company, Casselman Windpower LLC, Blue Creek Wind Farm LLC, Avangrid Renewables, LLC, Atlantic Renewable Projects II LLC.

Description: Atlantic Renewable Projects II LLC et al. submit response to FERC's 12/31/2024 deficiency letter re the 01/03/2023 updated market power analysis etc.

Filed Date: 1/30/25.

Accession Number: 20250130-5293.

Comment Date: 5 p.m. ET 2/20/25.

Docket Numbers: ER10-2984-070.

Applicants: Merrill Lynch Commodities, Inc.

Description: Notice of Change in Status of Merrill Lynch Commodities, Inc.

Filed Date: 1/31/25.

Accession Number: 20250131-5508.

Comment Date: 5 p.m. ET 2/21/25.

Docket Numbers: ER12-1821-005.

Applicants: COLORADO HIGHLANDS WIND, LLC.

Description: Notice of Change in Status of Colorado Highlands Wind, LLC.

Filed Date: 1/30/25.

Accession Number: 20250130-5292.

Comment Date: 5 p.m. ET 2/20/25.

Docket Numbers: ER13-342-020; ER13-343-016.

Applicants: CPV Maryland, LLC, CPV Shore, LLC.

Description: Notice of Change in Status of CPV Maryland, LLC, et al.

Filed Date: 1/31/25.

Accession Number: 20250131-5511.

Comment Date: 5 p.m. ET 2/21/25.

Docket Numbers: ER14-2579-001.

Applicants: Nalcor Energy Marketing Corporation.

Description: Notice of Non-Material Change in Status of Nalcor Energy Marketing Corporation.

Filed Date: 1/30/25.

Accession Number: 20250130-5284.

Comment Date: 5 p.m. ET 2/20/25.

Docket Numbers: ER15-2135-002.

Applicants: Alexander Wind Farm, LLC.

Description: Notice of Non-Material Change in Status of Alexander Wind Farm, LLC.

Filed Date: 1/31/25.

Accession Number: 20250131-5506.

Comment Date: 5 p.m. ET 2/21/25.

Docket Numbers: ER19-1217-006.

Applicants: Montana-Dakota Utilities Co.

Description: Notice of Non-Material Change in Status of Montana-Dakota Utilities Co.

Filed Date: 1/30/25.

Accession Number: 20250130-5287.

Comment Date: 5 p.m. ET 2/20/25.

Docket Numbers: ER20-59-008; ER10-2201-010; ER10-2331-076; ER10-2756-014; ER13-291-009.

Applicants: EnergyMark, LLC, Griffith Energy LLC, J.P. Morgan Ventures Energy Corporation, Marina Energy, LLC, AZ Solar 1, LLC.

Description: Notice of Change in Status of AZ Solar 1, LLC, et al.

Filed Date: 1/31/25.

Accession Number: 20250131-5515.

Comment Date: 5 p.m. ET 2/21/25.

Docket Numbers: ER21-205-004.

Applicants: Delmarva Power & Light Company, PJM Interconnection, L.L.C.

Description: Compliance filing: Delmarva Power & Light Company submits tariff filing per 35: Delmarva Power & Light Co. Order No. 864 Clean-Up Revisions in ER21-205 to be effective 5/1/2020.

Filed Date: 2/3/25.

Accession Number: 20250203-5170.

Comment Date: 5 p.m. ET 2/24/25.

Docket Numbers: ER22-1566-005.

Applicants: Guernsey Power Station LLC.

Description: Notice of Change in Status of Guernsey Power Station LLC.

Filed Date: 1/31/25.

Accession Number: 20250131-5510.

Comment Date: 5 p.m. ET 2/21/25.

Docket Numbers: ER23-883-003; ER10-1852-103; ER10-1951-077; ER11-4462-100; ER17-838-074; ER24-2512-002; ER24-2513-002; ER24-2514-002.

Applicants: FRP Gadsden County Solar, LLC, FRP Columbia County Solar, LLC, FRP Gilchrist County Solar, LLC, NextEra Energy Marketing, LLC, NEPM II, LLC, NextEra Energy Services Massachusetts, LLC, Florida Power & Light Company, Bell Ridge Solar, LLC.

Description: Notice of Change in Status of Bell Ridge Solar, LLC, et al.

Filed Date: 1/31/25.

Accession Number: 20250131-5517.

Comment Date: 5 p.m. ET 2/21/25.

Docket Numbers: ER23-2107-004; ER10-1852-102; ER10-1951-076; ER11-4462-099; ER17-838-073; ER24-2848-002.

Applicants: Troutdale Grid, LLC, NextEra Energy Marketing, LLC,NEPM II, LLC, NextEra Energy Services Massachusetts, LLC, Florida Power & Light Company, Clearwater Wind II, LLC.

Description: Notice of Change in Status of Clearwater Wind II, LLC, et al.

Filed Date: 1/31/25.

Accession Number: 20250131-5516.

Comment Date: 5 p.m. ET 2/21/25.

Docket Numbers: ER24-100-002; ER19-2399-004; ER24-101-001; ER24-102-001; ER24-109-001.

Applicants: Caden Energix Axton LLC, Caden Energix Endless Caverns LLC, Waverly Solar, LLC, Caden Energix Hickory LLC, Adams Solar LLC.

Description: Notice of Non-Material Change in Status of Adams Solar LLC, et al.

Filed Date: 1/31/25.

Accession Number: 20250131-5513.

Comment Date: 5 p.m. ET 2/21/25.

Docket Numbers: ER24-116-003.

Applicants: Rhythm Ops, LLC.

Description: Notice of Non-Material Change in Status of Rhythm Ops, LLC.

Filed Date: 1/30/25.

Accession Number: 20250130-5291.

Comment Date: 5 p.m. ET 2/20/25.

Docket Numbers: ER24-1651-002; ER20-55-004; ER21-772-004.

Applicants: Resi Station, LLC, OhmConnect, Inc., Renew Home VPP, LLC.

Description: Notice of Change in Status of Renew Home VPP, LLC, et al.

Filed Date: 1/31/25.

Accession Number: 20250131-5505.

Comment Date: 5 p.m. ET 2/21/25.

Docket Numbers: ER24-1848-002.

Applicants: Portland General Electric Company.

Description: Compliance filing: PGE Order Nos. 2023 2023-A Second Compliance Filing to be effective 1/6/2025.

Filed Date: 1/31/25.

Accession Number: 20250131-5472.

Comment Date: 5 p.m. ET 2/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, local communities, Tribal members and others, access publicly available information and navigate Commission processes. For public inquiries and assistance with making filings such as interventions, comments, or requests for rehearing, the public is encouraged to contact OPP at (202) 502-6595 or OPP@ferc.gov.

Dated: February 3, 2025.
Carlos D. Clay,
Deputy Secretary.

[FR Doc. 2025-02371 Filed 2-6-25; 8:45 am]

BILLING CODE 6717-01-P